DEPARTMENT OF HOMELAND SECURITY

Federal Emergency Management Agency

[Docket ID FEMA-2018-0002; Internal Agency Docket No. FEMA-B-1471]

Proposed Flood Hazard Determinations

AGENCY: Federal Emergency Management Agency; DHS.

ACTION: Notice; correction.

SUMMARY: On March 16, 2015, FEMA published in the Federal Register a proposed flood hazard determination notice that contained an erroneous table. This notice provides corrections to that table, to be used in lieu of the information published at 80 FR 13593-13594. The table provided here represents the proposed flood hazard determinations and communities affected for Atlantic County, New Jersey (All Jurisdictions).

DATES: Comments are to be submitted on or before July 3, 2018.

ADDRESSES: The Preliminary Flood Insurance Rate Map (FIRM), and where applicable, the Flood Insurance Study (FIS) report for each community are available for inspection at both the online location https://www.fema.gov/preliminaryfloodhazarddata and the respective Community Map Repository address listed in the table below. Additionally, the current effective FIRM and FIS report for each community are accessible online through the FEMA Map Service Center at https://msc.fema.gov for comparison.

You may submit comments, identified by Docket No. FEMA-B-1471, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed in the table below, in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

Use of a Scientific Resolution Panel (SRP) is available to communities in support of the appeal resolution process. SRPs are independent panels of experts in hydrology, hydraulics, and other pertinent sciences established to review conflicting scientific and technical data and provide recommendations for resolution. Use of the SRP may only be exercised after FEMA and local communities have been engaged in a collaborative consultation process for at least 60 days without a mutually acceptable resolution of an appeal. Additional information regarding the SRP process can be found online at https://www.floodsrp.org/pdfs/srp_fact_sheet.pdf.

The communities affected by the flood hazard determinations are provided in the table below. Any request for reconsideration of the revised flood hazard determinations shown on the Preliminary FIRM and FIS report that satisfies the data requirements outlined in 44 CFR 67.6(b) is considered an appeal. Comments unrelated to the flood hazard determinations will also be considered before the FIRM and FIS report are made final.

Correction

In the proposed flood hazard determination notice published at 80 FR 13593-13594 in the March 16, 2015, issue of the Federal Register, FEMA published a table titled “Atlantic County, New Jersey (All Jurisdictions)”. This table contained inaccurate information as to the communities affected by the proposed flood hazard determinations.

In this document, FEMA is publishing a table containing the accurate information. The information provided below should be used in lieu of that previously published.

(Catalog of Federal Domestic Assistance No. 97.022, “Flood Insurance.”)

Dated: March 22, 2018.
Roy E. Wright,
Deputy Associate Administrator for Insurance and Mitigation, Department of Homeland Security, Federal Emergency Management Agency.

Community | Community map repository address
Atlantic County, New Jersey (All Jurisdictions)
Project: 15-02-1283S Preliminary Dates: May 30, 2014 and January 30, 2015
Borough of Buena | Buena Borough Construction and Permits Office, 616 Central Avenue, Minotola, NJ 08341.
Borough of Folsom | Borough Hall, 1700 12th Street, Folsom, NJ 08037.
Borough of Longport | Borough Hall, 2305 Atlantic Avenue, Longport, NJ 08403.
City of Absecon | City Hall, 500 Mill Road, Absecon, NJ 08201.
City of Brigantine | City Hall, 1417 West Brigantine Avenue, Brigantine, NJ 08203.
City of Linwood | Construction Office, 400 Poplar Avenue, Linwood, NJ 08221.
City of Margate City | Construction Office, 9001 Winchester Avenue, Margate City, NJ 08402.
Town of Hammonton | Town Engineer's Office, 215 Bellevue Avenue, Hammonton, NJ 08037.
Township of Buena Vista | Buena Vista Township Hall, 890 Harding Highway, Buena, NJ 08310.
Township of Egg Harbor | Municipal Building, 3515 Bargaintown Road, Egg Harbor Township, NJ 08234.
Township of Hamilton | Hamilton Township Zoning Office, 6101 Thirteenth Street, Mays Landing, NJ 08330.
Township of Mullica | Mullica Township Hall, 4528 White Horse Pike, Elwood, NJ 08217.
Township of Weymouth | Weymouth Township Municipal Building, 45 South Jersey Avenue, Dorothy, NJ 08317.

[FR Doc. 2018-06814 Filed 4-3-18; 8:45 am]

BILLING CODE 9110-12-P